DEPARTMENT OF ENERGY

Federal Energy Regulatory Commission

[Docket Nos. ER04-688-000; ER04-689-000; ER04-690-000; ER04-693-000]

Pacific Gas and Electric Company; Notice of Technical Conference

August 27, 2004.

Parties are invited to attend a technical conference in the above-referenced Pacific Gas and Electric Company (PG&E) proceedings on August 31-September 1, 2004, at Commission Headquarters, 888 First Street, NE., Washington, DC 20426. The technical conference will be held in Conference Room 3M4-A/B on both days. The August 31st technical conference will be held from 9 a.m. until 5 p.m. (e.s.t.). The September 1st technical conference will be held from 9 a.m. until 3 p.m. Arrangements have been made for parties to listen to the technical conference by telephone.

The purpose of the conference is to identify the issues raised in these proceedings, develop information for use by Commission staff in preparing an order on the merits, and to facilitate any possible settlements in these proceedings. The parties will discuss, among other things, the following issues related to the unexecuted agreements filed by PG&E in the above-referenced dockets: (1) The Parallel Operation Agreement between PG&E and Western Area Power Administration (WAPA) (PG&E Original Rate Schedule FERC No. 228), (2) the Interconnection Agreement, (3) the Wholesale Distribution Tariff Service Agreement and (4) related issues to these Agreements.

Questions about the conference and the telephone conference call arrangements should be directed to: Julia A. Lake, Office of the General Counsel—Markets, Tariffs and Rates, Federal Energy Regulatory Commission, 888 First Street, NE., Washington, DC 20426, (202) 502-8370, Julia.lake@ferc.gov

Magalie R. Salas,
Secretary.

[FR Doc. E4-2052 Filed 9-2-04; 8:45 am]

BILLING CODE 6717-01-P